DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of April 11, 2024 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Deputy Assistant Administrator for Risk Management, Federal Emergency Management Agency, Department of Homeland Security.

Community | Community map repository address
Ketchikan Gateway Borough and the Cities of Ketchikan and Saxman, Alaska
Docket No.: FEMA—B-2276
Ketchikan Gateway Borough | Ketchikan Gateway Borough Planning and Community Development Office, 1900 1st Avenue, Suite 126, Ketchikan, AK 99901.
Ventura County, California and Incorporated Areas
Docket Nos.: FEMA-B-2104 and FEMA-B-2296
City of Fillmore | City Hall, 250 Central Avenue, Fillmore, CA 93015.
City of Santa Paula | City Hall, 970 Ventura Street, Santa Paula, CA 93060.
Unincorporated Areas of Ventura County | Ventura County Government Center Hall of Administration, 800 South Victoria Avenue, Ventura, CA 93009.
Arapahoe County, Colorado and Incorporated Areas
Docket No.: FEMA-B-2039 and FEMA-B-2287
City of Centennial | Southeast Metro Stormwater Authority, 7437 South Fairplay Street, Centennial, CO 80112.
City of Englewood | Civic Center, 1000 Englewood Parkway, Englewood, CO 80110.
City of Greenwood Village | City Hall, 6060 South Quebec Street, Greenwood Village, CO 80111.
City of Littleton | Public Works Department, 2255 West Berry Avenue, Littleton, CO 80120.
City of Sheridan | Municipal Center, 4101 South Federal Boulevard, Sheridan, CO 80110.
Unincorporated Areas of Arapahoe County | Arapahoe County Public Works and Development Department, 6924 South Lima Street, Centennial, CO 80112.
Gwinnett County, Georgia and Incorporated Areas
Docket No.: FEMA-B-2154 and B-2298
City of Dacula | City Hall, 442 Harbins Road, Dacula, GA, 30019.
Town of Braselton | Town Hall, 4982 Highway 53, Braselton, GA 30517.
Unincorporated Areas of Gwinnett County | Gwinnett County Justice and Administration Center, 75 Langley Drive, Lawrenceville, GA 30046.
Scott County, Iowa and Incorporated Areas
Docket No.: FEMA-B-2285
City of Bettendorf | City Hall, 1609 State Street, Bettendorf, IA 52722.
City of Buffalo | City Hall, 329 Dodge Street, Buffalo, IA 52728.
City of Davenport | City Hall, 226 West 4th Street, Davenport, IA 52801.
City of Panorama Park | City Hall, 120 Short Street, Panorama Park, IA 52722.
City of Riverdale | City Hall, 110 Manor Drive, Riverdale, IA 52722.
Unincorporated Areas of Scott County | Scott County Administrative Center, 600 West 4th Street, Davenport, IA 52801.
Kenosha County, Wisconsin and Incorporated Areas
Docket No.: FEMA-B-2269
City of Kenosha | City Hall, 625 52nd Street, Kenosha WI 53140.
Unincorporated Areas of Kenosha County | Kenosha County Center, 19600 75th Street, Suite 185-3, Bristol, WI 53104.
Village of Bristol | Bristol Municipal Building, 19801 83rd Street, Bristol, WI 53104.
Village of Paddock Lake | Village Hall, 6969 236th Avenue, Paddock Lake, WI 53168.
Village of Pleasant Prairie | Village Hall, 9915 39th Avenue, Pleasant Prairie, WI 53158.
Village of Salem Lakes | Salem Lakes Village Hall, 9814 Antioch Road, Salem, WI 53168.
Village of Somers | Somers Village Hall, 7511 12th Street, Kenosha, WI 53144.
Village of Twin Lakes | Village Hall, 105 East Main Street, Twin Lakes, WI 53181.

[FR Doc. 2023-25584 Filed 11-17-23; 8:45 am]

BILLING CODE 9110-12-P